ENVIRONMENTAL PROTECTION AGENCY

[EPA-HQ-OAR-2007-0269; FRL-11794-01-OMS]

Agency Information Collection Activities; Submission to Office of Management and Budget for Review and Approval; Comment Request; Transportation Conformity Determinations for Federally Funded and Approved Transportation Plans, Programs and Projects (Renewal)

AGENCY: Environmental Protection Agency (EPA).

ACTION: Notice.

SUMMARY: The Environmental Protection Agency (EPA) has submitted an information collection request (ICR), Transportation Conformity Determinations for Federally Funded and Approved Transportation Plans, Programs, and Projects (EPA ICR Number 2130.07, OMB Control Number 2060-0561), to the Office of Management and Budget (OMB) for review and approval in accordance with the Paperwork Reduction Act. This is a proposed extension of the ICR, which is currently approved through February 29, 2024. Public comments were previously requested via the Federal Register on August 8, 2023 and the comment period was open for 60 days. This notice allows for an additional 30 days for public comments.

DATES: Additional comments may be submitted on or before April 1, 2024.

ADDRESSES: Submit your comments to EPA, referencing Docket ID No. EPA-HQ-OAR-2007-0269, to EPA online using www.regulations.gov (our preferred method) or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Aaron Letterly, Office of Transportation and Air Quality, Environmental Protection Agency, 2000 Traverwood Drive, Ann Arbor, MI 48105; telephone number 734-214-4340, email address: letterly.aaron@epa.gov.

SUPPLEMENTARY INFORMATION: This is a proposed extension of the ICR, which is currently approved through February 29, 2024. An agency may not conduct or sponsor and a person is not required to respond to a collection of information unless it displays a currently valid OMB control number.

Public comments were previously requested via the Federal Register on August 8, 2023 during a 60-day comment period (88 FR 53483). This notice allows for an additional 30 days for public comments. Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit https://www.epa.gov/dockets.

Abstract: Transportation conformity is required under Clean Air Act section 176(c) (42 U.S.C. 7506(c)) to ensure that federally supported transportation activities are consistent with (“conform to”) the purpose of the State Air Quality Implementation Plan (SIP). Transportation activities include transportation plans, transportation improvement programs (TIPs), and federally funded or approved highway or transit projects. Conformity to the purpose of the SIP means that transportation activities will not cause or contribute to new air quality violations, worsen existing violations, or delay timely attainment of the relevant National Ambient Air Quality Standards (NAAQS)) or interim milestones.

Transportation conformity applies under EPA's conformity regulations at 40 CFR part 93, subpart A, to areas that are designated nonattainment and maintenance areas for the following transportation-related criteria pollutants: ozone, particulate matter (PM2.5 and PM10), carbon monoxide (CO), and nitrogen dioxide (NO2). EPA published the original transportation conformity rule on November 24, 1993 (58 FR 62188), and has subsequently published several revisions. EPA develops the conformity regulations in coordination with the Federal Highway Administration (FHWA) and Federal Transit Administration (FTA). The federal government needs information collected under these regulations to ensure that metropolitan planning organization (MPO) and federal transportation actions are consistent with state air quality goals.

Form numbers: None.

Respondents/affected entities: MPOs, local transit agencies, state departments of transportation, and state and local air quality agencies.

Respondent's obligation to respond: Mandatory pursuant to Clean Air Act section 176(c) (42 U.S.C. 7506(c)) and 40 CFR part 93.

Estimated number of respondents: 145 (total).

Frequency of response: Typically, once every four years for transportation plans and TIPs, and for the largest MPOs with three or more NAAQS, once every three years for transportation plans and TIPs. As needed for projects.

Total estimated burden: 42,481 hours (per year). Burden is defined at 5 CFR 1320.03(b).

Total estimated cost: $2,946,914 (per year), which includes $0 annualized capital or operation & maintenance costs.

Changes in the estimates: There is a decrease of 6,190 hours in the total estimated respondent burden compared with the ICR currently approved by OMB. This decrease in burden was projected due to the requirement for transportation conformity ending in PM10, NO2, and CO maintenance areas that have reached the end of the 20-year maintenance period.

Courtney Kerwin,
Director, Information Engagement Division.

[FR Doc. 2024-04153 Filed 2-28-24; 8:45 am]

BILLING CODE 6560-50-P